NUCLEAR REGULATORY COMMISSION

[NRC-2010-0209]

Notice of Public Meeting To Solicit Comments on the Draft Policy Statement on the Protection of Cesium-137 Chloride Sources

AGENCY: U.S. Nuclear Regulatory Commission (NRC).

ACTION: Notice of public meeting to solicit public comments.

SUMMARY: The NRC is conducting a public meeting to solicit public input on the draft policy statement on the protection of cesium-137 chloride (CsCl) sources that was published in the Federal Register on June 29, 2010 (75 FR 37483). During the public meeting, the NRC will request public comments on the issues discussed in this document. Additionally, the NRC is requesting names of individuals to participate at the public meeting in a round table discussion of the issues discussed in Section III of this document.

The purpose of this document is to announce the date and location of the public meeting which were not finalized in the June 29, 2010, document, as well as to publish an Issues Paper which will serve as a framework for the discussion of the major issues in the draft policy statement in the public meeting.

DATES: 1. The public meeting will be held on November 8-9, 2010.

2. Nominations for participation in the roundtable discussions of the public meeting should be submitted by October 8, 2010.

3. Written comments on the draft policy statement, outside the scope of the public meeting, are also accepted and should be submitted by December 17, 2010. Comments received after this date will be considered if it is practical to do so, but the NRC is able to assure consideration only for comments received on or before this date.

4. To ensure efficient and complete comment resolution, comments should include reference to the section and page numbers of the Draft Policy Statement (75 FR 37483) to which the comment applies. When commenting on the CsCl issues presented, please exercise caution with regard to site-specific security-related information. Comments will be made available to the public in their entirety; personal information, such as your name, address, telephone number, e-mail address, etc. will not be removed from your submission.

ADDRESSES: Please include Docket ID NRC-2010-0209 in the subject line of your comments. For instructions on submitting comments and accessing documents related to this action, see Section I, “Submitting Comments and Accessing Information” in the SUPPLEMENTARY INFORMATION section of this document. You may submit comments by any one of the following methods.

Federal Rulemaking Web Site: Go to http://www.regulations.gov and search for documents filed under Docket ID NRC-2010-0209. Address questions about NRC dockets to Carol Gallagher, telephone (301) 492-3668; e-mail Carol.Gallagher@nrc.gov.

Mail comments to: Cindy Bladey, Chief, Rules, Announcements, and Directives Branch (RADB), Office of Administration, MS: TWB-5 B1M, U.S. Nuclear Regulatory Commission, Washington, DC 20555-0001, or by fax to RADB at (301) 492-3446.

The public meeting will be held at The Universities at Shady Grove Conference Center, 9630 Gudelsky Drive, Rockville, Maryland 20850-5822. Nominations for participation in the roundtable discussions of the public meeting should be submitted by October 8, 2010. For expeditious handling of the nominations, the NRC established a dedicated e-mail address. The nominations should be sent to the following NRC e-mail address: CesiumDraftPolicy@nrc.gov.

Other participants, who wish to attend the public meeting, may also pre-register at the dedicated e-mail address: CesiumDraftPolicy@nrc.gov. The NRC will appreciate pre-registration in order to properly plan for the conference facilities; however, pre-registration is not required and registration will be available on the opening day of the public meeting.

FOR FURTHER INFORMATION CONTACT: Dr. John P. Jankovich, Office of Federal and State Materials and Environmental Management Programs, telephone (301) 415-7904, e-mail john.jankovich@nrc.gov, or Dr. Cynthia G. Jones, Office of Nuclear Security and Incident Response, telephone (301) 415-0298, e-mail cynthia.jones@nrc.gov.

SUPPLEMENTARY INFORMATION:

I. Submitting Comments and Accessing Information

Comments submitted in writing or in electronic form will be posted on the NRC Web site and on the Federal rulemaking Web site http://www.regulations.gov. To ensure efficient and complete comment resolution, comments should include reference to the section and page numbers of the Draft Policy Statement (75 FR 37483) and/or Issues Paper to which the comment applies. When commenting on the CsCl issues presented, please exercise caution with regard to site-specific security-related information. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document, including the following documents, using the following methods:

NRC's Public Document Room (PDR): The public may examine and have copied for a fee, publicly available documents at the NRC's PDR, Room O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209 or 301-415-4737, or by e-mail to PDR.Resource@nrc.gov.

Federal Rulemaking Web Site: Public comments and supporting materials related to this document can be found at http://www.regulations.gov by searching on Docket ID NRC-2010-0209.

The NRC will also use a public Web site, http://www.nrc.gov/materials/miau/licensing.html#cc to make documents, relevant to the draft policy statement and to the public meeting, accessible. This public Web site will be continually updated as new information becomes available.

II. Background

The NRC is seeking public input on the major issues associated with its proposed policy and expectations on the secure uses of CsCl sources. As a first step, the NRC has prepared a draft policy statement, published June 29, 2010 (75 FR 37483), to address issues related to the safety and security of the International Atomic Energy Agency (IAEA) Category 1 and 2 CsCl sources.¹ The intent of this document is to foster discussion about the draft policy issues in the public meeting and to solicit comments on the draft policy statement.

¹ An IAEA Category 1 cesium-137 source contains a minimum of 3,000 Ci (100 TBq) and a Category 2 source contains a minimum of 30 Ci (1 TBq). See http://www-pub.iaea.org/MTCD/publications/PDF/Code-2004_web.pdf.

Following the publication of the draft policy statement, additional information became available on security of radioactive sources. The Energy Policy Act of 2005 (Pub. L.109-58) named 12 Federal agencies and 2 State organizations to the interagency Radiation Source Protection and Security Task Force (Task Force) and named the NRC Chairman (or a designee) as its chairperson. The Task Force was charged with evaluating and providing recommendations to the President and Congress relating to the security of radiation sources in the United States from potential terrorist threats, including acts of sabotage, theft, or use of a radiological source in a radiological dispersal device. The first Task Force report was submitted in August 2006 (see http://www.nrc.gov/reading-rm/doc-collections/congress-docs/correspondence/2006/president-08-15-2006.pdf). On August 11, 2010, the NRC transmitted to the President and Congress with the second report documenting the efforts of the interagency Task Force. The second report included 11 recommendations to improve source security in the U.S. (see http://www.nrc.gov/security/byproduct/2010-task-force-report.pdf).

III. Issues Paper on the Draft Policy Statement on the Protection of Cesium-137 Chloride Sources

The objective of the public meeting is to solicit stakeholder comments on the policy issues that are presented in the draft policy statement. The following format is used in the presentation of the issues. Each issue is assigned a number, a description of the policy issue, a list of panel presentations with subjects for volunteers to address in short overview-type presentations, and a list of questions for discussion by the general public. These issues, questions and factors are not meant to be a complete or final list, but are intended to initiate discussion. Interested stakeholders are welcome to recommend additions, deletions, or modifications to the key issues. The Commission will consider all public feedback when issuing the final policy statement. Meeting participants and commenters are encouraged to read the proceedings of the previous public meeting held in 2008 and the written comments that the NRC received. The documents are available at http://www.nrc.gov/materials/miau/licensing.html#cesium.

Issues for Discussion

Issue 1: The safety and security of risk significant sources is an essential part of the NRC's mission. Licensees have the primary responsibility to securely manage and to protect sources in their possession from misuse, theft, and radiological sabotage.

Panel presentations:

• Outline of current security and control requirements.

• Overview of security inspection findings by the NRC Regional offices.

• Agreement State perspectives.

Participant deliberations:

• What is the status and history of the current security requirements and programs to reduce the potential vulnerability of IAEA Category 1 and 2 sources?

• What issues have licensees experienced when implementing the requirements?

• What is the status of the NRC and Agreement State inspections designed to verify implementation of the requirements?

Issue 2: Adequate protection of public health and safety is maintained if CsCl sources are managed in accordance with the security requirements of the NRC and the Agreement States. The NRC monitors the threat environment and maintains awareness of international and domestic security efforts. In the event that changes in the threat environment necessitate regulatory action, the NRC is ready to issue additional security requirements to apply appropriate limitations for the use of CsCl in its current form.

Panel presentations:

• Status of proposed 10 CFR Part 37 rulemaking, Federal Register Notice, June 15, 2010. (75 FR 33902)

• Licensees perspective of security requirements for CsCl sources.

• An overview of NRC's threat assessment process.

• Overview of the Federal Bureau of Investigation (FBI) outreach efforts.

Participant deliberations:

• Is security of CsCl sources adequately addressed by the current requirements?

• Should CsCl sources receive special consideration?

• How would the proposed Part 37 change the licensees' current/existing security measures for CsCl?

• How do the FBI outreach efforts affect the protection measures in place for CsCl sources?

• If needed, what additional cooperative efforts could be undertaken to enhance security or minimize the risk?

Issue 3: Could hardware improvements be made that would further mitigate or minimize the radiological consequences?

Panel presentations:

• Irradiator manufacturers' presentation on safety features.

• Overview of the Department of Energy (DOE)/National Nuclear Security Administration (NNSA) voluntary security enhancement program.

• Licensee perspective of design changes.

Participant deliberations:

• What is the status of current CsCl designs regarding security enhancements?

• What are the benefits of the DOE/NNSA voluntary security enhancements and table-top exercises?

• Are other isotopes being considered for the future production of existing designs?

• Are new concepts being considered for new designs?

Issue 4: The development and use of alternative forms of cesium-137, while not required for adequate protection, is prudent and the NRC intends to monitor these developments closely.

Panel presentations:

• Overview of feasible alternatives from the irradiator manufacturers' perspective and from the users' perspective.

• Source manufacturers' presentation on new initiatives.

• Dispersibility considerations.

Participant deliberations:

• Are manufacturers currently considering the use of other forms of cesium (other than CsCl)? If yes, what alternatives are viable?

• What is the status of new developments?

• How can the effectiveness of new alternatives regarding solubility and dispersibility be measured?

○ What are the physical/chemical parameters?

○ How can risk reduction be quantified?

• How to formalize solubility and dispersibility parameters?

Issue 5: CsCl enables three specific classes of applications that benefit society:

(a) Blood irradiation;

(b) Bio-medical and industrial research; and

(c) Calibration of instrumentation and dosimetry.

Panel presentations:

• Equipment needs of the blood irradiation industry.

• Conduct of bio-medical research in view of cesium-137 irradiation.

• Issues in calibration technology in view of cesium-137 sources.

• Status of alternative technologies.

Participant deliberations:

• What impact does the Draft Policy Statement pose for each of these applications?

• What is the licensees' experience in complying with the current security requirements in view of the three fields of applications?

• What technological changes are anticipated in these applications regarding the use of cesium-137 sources?

Issue 6: The NRC recognizes that currently there is no disposal capability for commercial CsCl sources. The NRC considers it imperative to develop a pathway for the long-term storage and disposal of these sources whether or not there are alternatives developed.

Panel presentations:

• Update from DOE on development of Environmental Impact Statement for a disposal facility.

• Licensees' perspective on storage and disposal of CsCl sources.

• Disposal of CsCl sources through DOE's Off-Site Recovery Program or Conference of Radiation Control Program Directors.

Participant deliberations:

• What are the major issues for licensees (users of CsCl sources) regarding disposal of their sources?

• What options are available?

• What are the (security and cost) impacts of the current regulatory environment on licensees?

IV. Solicitation for Stakeholder Input

To solicit stakeholder input during the public meeting, NRC will conduct a roundtable panel discussion, with opportunity for audience participation, for each issue contained in Section III of this document. The NRC is seeking the names of individuals interested in participating on these panels. Nominations by interested individuals or organizations should include the name of the proposed panel member, the issues they are interested in discussing, viewpoint(s) on the issue(s), and affiliation (if any). Roundtable panel participants will be selected with the goal of providing balanced viewpoints on each of the various issues. Please see the ADDRESSES section of this document to submit nominations by October 8, 2010. Nominations received after this date will be considered if it is practical to do so.

We encourage previous participants who attended, either as panel members or attendees, the prior public workshop held on September 29-30, 2008, to also participate in this meeting. Information on the previous public meeting is accessible at http://www.nrc.gov/materials/miau/licensing.html#cesium.

Based on the comments received in both written and electronic form, and at the public meeting, the Commission will then be in a better position to proceed with the issuance of a final policy statement. The final policy statement, when issued by the Commission, will be published in the Federal Register.

Dated at Rockville, Maryland, this 20th day of September 2010.
For the Nuclear Regulatory Commission.
John P. Jankovich,
Team Leader, Office of Federal and State Materials and Environmental Management Programs.

[FR Doc. 2010-24392 Filed 9-28-10; 8:45 am]

BILLING CODE 7590-01-P